DEPARTMENT OF HOMELAND SECURITY

Transportation Security Administration

[Docket No. TSA-2003-14610]

Intent To Request Extension From OMB of One Current Public Collection of Information: Security Threat Assessment for Individuals Applying for a Hazardous Materials Endorsement for a Commercial Driver's License

AGENCY: Transportation Security Administration, DHS.

ACTION: 60-Day notice.

SUMMARY: The Transportation Security Administration (TSA) invites public comment on one currently approved Information Collection Request (ICR), Office of Management and Budget (OMB) control number 1652-0027, abstracted below that we will submit to OMB for extension in compliance with the Paperwork Reduction Act (PRA). The ICR describes the nature of the information collection and its expected burden. The collection involves applicant's voluntary submission of biometric and biographic information for TSA's security threat assessment (STA) in order to obtain the hazardous materials endorsement (HME) on a commercial drivers license (CDL) issued by States and the District of Columbia.

DATES: Send your comments by June 4, 2018.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is inviting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0027; Security Threat Assessment for Individuals Applying for a Hazardous Materials Endorsement for a Commercial Driver's License, 49 CFR part 1572. TSA is requesting an extension of the currently approved ICR. The currently approved ICR supports implementation of 49 U.S.C. 5103a,¹ which mandates that no State or the District of Columbia may issue a HME on a CDL unless TSA has first determined that the driver is not a threat to transportation security.

¹ Which codified sec. 1012 of Public Law 107-56 (115 Stat. 272, 396, Oct. 26, 2001), Uniting and Strengthening America by Providing Appropriate Tools Required to Intercept and Obstruct Terrorism (USA PATRIOT ACT) Act of 2001.

TSA's implementing regulations (codified at 49 CFR part 1572) describe the procedures, standards, and eligibility criteria for STAs on individuals seeking to obtain, renew, or transfer a HME on a CDL. To conduct the STA for the HME, States (or a TSA-designated agent in States that elect to have TSA perform the collection of information) must collect additional information beyond that already collected for the purpose of HME applications (which occur approximately once every five years). The driver is required to submit an application that includes personal biographic information (driver's legal name, current and previous mailing addresses, date of birth, gender, height, weight, eye and hair color, city/state/country of birth, social security number (optional)); information concerning immigration status, mental incapacity; criminal history; and biometrics such as fingerprints.

States or the TSA agent must also submit whether the driver is a new applicant or applying to renew or transfer the HME. This information is necessary for TSA to forecast driver retention, transfer rate, and drop rate to help improve customer service, and reduce program costs. It is also necessary to provide comparability with other Federal background checks, including the Transportation Workers Identification Credential (TWIC).

In addition, the ICR includes the collection of information to expand enrollment options and the potential use of biographic and biometric (e.g., fingerprints, iris scans, and/or photo) information for additional comparability determinations. An example of a comparable determination could be allowing the HME applicant to participate in a program such as the TSA Pre✓® Application Program, TSA's trusted traveler program for air travelers, without requiring an additional background check. This type of comparability determination is currently allowed in tandem with the (TWIC). States have the option to allow for HME STA comparability with the TWIC STA, and applicants in States that allow comparability pay a reduced fee to obtain an HME STA if they already hold a TWIC.

When the STA is complete, TSA makes a final determination on eligibility for the HME and notifies applicants of its decision. Most applicants will receive notification from TSA within two to three weeks of the submission of their completed applications. If initially deemed ineligible by TSA, applicants will have an opportunity to apply for an appeal or waiver. Applicants must submit an application for appeal or waiver within 60 days of issuance of TSA's letter. If an application for appeal or waiver is not received by TSA within the specified amount of time, the agency may make a final determination to deny eligibility. Individuals who TSA determines are ineligible for the HME Threat Assessment Program (HTAP) will be ineligible to hold a state-issued HME on their CDL.

The currently approved ICR also includes an optional survey to gather information regarding the driver's overall customer satisfaction with the service received at the enrollment center utilized by the TSA agent states. The optional survey will be administered at the end of the in-person enrollment service. Please note that the optional survey is only provided for drivers who enroll with a State serviced by TSA's designated enrollment contractor.

TSA estimates an annualized 229,743 respondents will apply for an HME, and that the application and background check process will involve 443,698 annualized hours. TSA estimates that of the 229,743 annualized respondents, 38,923 HME applicants will respond to the customer survey with annualized burden hours of 1,622. The applicant fee remains $86.50, which covers TSA's program costs, TSA's enrollment vendor's costs, and the FBI fee for the criminal history records check. For applicants in States that allow comparability, the reduced fee remains $67.00.

Dated: March 29, 2018.
Christina A. Walsh,
TSA Paperwork Reduction Act Officer, Office of Information Technology.

[FR Doc. 2018-06868 Filed 4-3-18; 8:45 am]

BILLING CODE 9110-05-P